DEPARTMENT OF TRANSPORTATION

Federal Aviation Administration

Public Meeting/Working Group With Industry on Volcanic Ash

AGENCY: Federal Aviation Administration (FAA), DOT.

ACTION: Notice of public meeting.

SUMMARY: This notice announces a meeting hosted by the FAA's Aviation Weather Group in coordination with the National Oceanic and Atmospheric Administration (NOAA). The meeting is to identify operational needs for Volcanic Ash information in support of aviation from stakeholders.

DATES: The meeting will be held on November 5, 2010, from 9 a.m. to 4:30 p.m.

ADDRESSES: The meeting will be held at the Federal Aviation Administration, 800 Independence Avenue SW., Bessie Coleman Room, Washington, DC 20591.

FOR FURTHER INFORMATION CONTACT: Mr. Steven R. Albersheim, Federal Aviation Administration, 800 Independence Avenue, SW., Washington, DC 20591; telephone: (202) 385-7185; e-mail: steven.albersheim@faa.gov or Mr. Stewart Stepney, Federal Aviation Administration, 800 Independence Avenue, SW., Washington, DC 20591; telephone: (202) 385-7182; e-mail: stewart.stepney@faa.gov.

SUPPLEMENTARY INFORMATION: Background: The FAA is issuing this notice to advise the public of a meeting to discuss the establishment of operational requirements for the reporting and forecasting of volcanic eruptions and the associated ash cloud. It has been well documented that volcanic ash clouds are a hazard to en route aircraft and airport operations. The FAA, in collaboration with NOAA, provides information on volcanic ash. There is a need to better understand the content and characteristics of information on volcanic ash to support operational decisions. This information will be used to help direct R&D effort for improved services in support of NextGen. In addition, the information gathered from this meeting will assist FAA in its effort to collaborate with the international community to promote global harmonization on the functional and performance requirements for volcanic ash. The Federal Advisory Committee Act (Pub. L. 92-463, 5 U.S.C., Appendix 2) requires that public notice of this meeting be announced in the Federal Register.

Purpose: The FAA is in the process of reviewing existing operational requirements as implemented in advisories and warning messages to Airline Operations Centers, Flight Crews, and Traffic Flow Management. In that regard, the FAA has defined an initial set of volcanic ash functional and performance requirements to support NextGen operations. These requirements must be validated with users in order to provide sound guidance for R&D investments. The purpose of the meeting announced in this Federal Register Notice is to assist the FAA in refining these requirements which will be used to drive R&D for improvement in volcanic ash detection, modeling and forecasting. The specific objective of the meeting is to identify performance requirements in terms of accuracy, latency, reliability, resolution, location, density, etc., of volcanic ash information resulting from volcanic ash modeling, observation, and forecasting. Public Participation: Due to space constraints, interested parties will need to register for this activity. Deadline for registration is October 31, 2010 or when capacity of the facility is met. We are asking anyone interested in attending to notify Steven Albersheim or Stewart Stepney at the phone or e-mail address listed in the FOR FURTHER INFORMATION CONTACT section.

Issued in Washington, DC on September 7, 2010.
Richard J. Heuwinkel,
Team Manager, Aviation Weather Policy and Requirements.

[FR Doc. 2010-22822 Filed 9-13-10; 8:45 am]

BILLING CODE 4910-13-P